DEPARTMENT OF AGRICULTURE

Forest Service

Umatilla National Forest, Walla Walla Ranger District, Walla Walla, WA; Cobbler II Timber Sale and Fuels Reduction Project

AGENCY: Forest Service, USDA.

ACTION: Notice of intent to prepare an environmental impact statement.

SUMMARY: The USDA Forest Service will prepare an environmental impact statement (EIS) to disclose environmental effects on proposed resource management actions in Cobbler II project planning area. This project would improve the health, vigor, and resilience to fire, insects, and disease in upland forest stands that are outside their historical pre-fire conditions for species composition, structural diversity, stocking densities, and fuel loads. The project planning area is approximately 34,000 acres in size. Proposed project activities consist of commercial timber harvest, including treatment of activity and natural fuels within harvest units, temporary road construction (that will be decommissioned after project use), new road construction, danger tree removal along haul routes, non-commercial thinning, hardwood restoration, meadow restoration, and landscape prescribed burning.

DATES: Comments concerning the scope of the analysis must be received by February 26, 2010. The draft environmental impact statement is expected to be available in April 2010 and the final environmental impact statement in July 2010.

ADDRESSES: Send written comments to Mike Rassbach, District Ranger, Walla Walla Ranger District, 1415 West Rose Street, Walla Walla, WA 99362. Comments may also be sent via e-mail to comments-pacificnorthwest-umatilla-wallawalla@fs.fed.us or via facsimile to (509) 522-6000. Comments may be hand delivered to the Walla Walla Ranger District office between the hours of 8 a.m. and 4:30 p.m., Monday through Friday, excluding Federal holidays. Individuals who use telecommunication devices for the deaf (TDD) may call the Federal Information Relay Service (FIRS) at 1-800-877-8339 between 8 a.m. and 8 p.m., Eastern Time, Monday through Friday.

FOR FURTHER INFORMATION CONTACT: Betsy Kaiser, Project Team Leader, Walla Walla Ranger District, telephone (509) 522-6290 or e-mail bkaiser@fs.fed.us.

SUPPLEMENTARY INFORMATION: Background Information—An environmental assessment (EA) for Cobbler Timber Sale and Fuels Reduction Project was prepared by the Forest Service and issued to the public in May 2009. A decision notice and finding of no significant impact for the May 2009 EA was signed by the responsible official, Kevin Martin, Umatilla National Forest Supervisor, on May 18, 2009. This decision was appealed, and on July 29, 2009, Supervisor Martin sent a memo to the Regional Forester to withdraw his May 18th decision.

After the withdrawal of the decision, the Forest Service decided to initiate the Cobbler II Timber Sale and Fuels Reduction Project environmental assessment (EA) and scoped with a letter dated November 20, 2009, and comment letters were received. Since that scoping letter was mailed, the Forest Service has decided to issue an environmental impact statement (EIS) for this project. The project file for the May 2009 EA and the Cobbler II EA will be incorporated in the Cobbler II EIS. Information regarding the May 2009 Cobbler EA documents and the Cobbler II EA scoping letter are available for review at the following Web site address: http://www.fs.fed.us/r6/uma/projects/readroom/.

Project Information—Cobbler II project planning area is primarily located in Wallowa County and a small portion in Union County, Oregon within portions of T. 4N., R. 40E., sections 1, 2, 3, 4, 10, 11, 12, 14, and 15; T.5 N., R.40 E., sections 1, 12, 13, 14, 23, 24, 25, 26, 34, 27, 33, 34, 35, and 36; T. 4N., R. 41E., sections 5, 6, 7, and 18; T. 5N., R. 41E., sections 1 to 34; T. 5N., R. 42E., sections 4, 5, 6, and 7; T. 6N., R. 41E., sections 25, 26, 27, 33, 34, 35, and 36; and T. 6N., R. 42E., sections 29, 30, 31, 32, 33, and 34. It is in the Lower Grande Ronde subbasin, within the Grande Ronde River and Wenaha Watersheds.

Cobbler II project planning area is bounded by the Wenaha-Tucannon Wilderness to the north and west and the Grande Ronde River to the southeast. Grande Ronde River has been designated as a Wild and Scenic River by the Omnibus Oregon Wild and Scenic Rivers Act of 1988, and the segment bordering the project planning area has been designated as wild. The town of Elgin, Oregon, is approximately 20 miles to the southwest. Troy and Eden Bench Wildland Urban Interface (WUI) areas are approximately 5 miles east of the project planning area, and are identified in the Wallowa County Community Wildfire Protection Plan (CWPP). A portion (approximately 7,700 acres) of the Grande Ronde inventoried roadless area (IRA) is within the project planning area.

Purpose and Need for Action—The purpose and need for action in this project is to improve health, vigor, and resilience to fire, insects, and disease in upland forests that are outside their historical pre-fire suppression conditions for species composition, structural diversity, stocking densities, and fuel loads. Additionally, there is a need to provide sawlogs and wood fiber products for utilization by regional and local industry.

Forest stands in the project planning area have been altered from historical conditions due to fire suppression and past forest management practices. A majority of current forest stands originated as a result of fire disturbances occurring over one hundred years ago, and they have not experienced fire since then. There have been repeated insect defoliation episodes followed by salvage harvest. Lodgepole pine stands have been harvested, and the remaining mature stands in the project planning area are at the age to be highly susceptible to mountain pine beetle, which is currently experiencing an increasing population. Late seral tree species have become dominant after long periods without disturbance and generally are more susceptible to disturbance-caused mortality than early seral species. Forest stands have become overstocked and are above recommended stocking levels that would maintain stand growth and vigor. Timber stands of seral tree species such as western larch and ponderosa pine are infilling with grand fir.

Findings from the historical range of variability (HRV) analysis for Eastside Screens show that old forest structure is within historical range for moist forest biophysical group, but outside of historical range for dry forest biophysical group in old forest single stratum (OFSS) structural stage.

Proposed Action—Following are brief descriptions of activities proposed for implementation, along with associated activities that would occur concurrently.

Timber Harvest—Commercially harvest approximately 2,500 acres. In some treatment units timber harvest would include the removal of sawlogs and small diameter trees in the 3-9 inch diameter at breast height (DBH) range which would be used as a woody biomass product. In some treatment units only biomass products would be removed with incidental removal of sawlogs. Commercial thinning is the primary silviculture prescription with some shelterwood and seed-tree prescriptions used in decadent stands where thinning would not restore growth or vigor. Harvest objectives would vary by stand condition and fuel management objectives. Treatments would tend to favor early seral tree species such as ponderosa pine and western larch. Harvest methods would include conventional ground based (approximately 380 acres) logging, using a harvester/forwarder (approximately 1,830 acres), and skyline logging (approximately 230 acres).

Fuel Treatments (activity and natural)—Activity fuels and existing natural fuels would be treated in harvest units. Treatments would include mechanical mastication, grapple piling, hand piling, jackpot burning, and yarding with tops attached depending on slash loads and the amount of fire sensitive species remaining after harvest. Mastication would be used to treat both activity fuels and remaining ladder fuels when small diameter understory is removed for woody biomass products (3-9 inch DBH) and a high density of understory trees still remains. Hand piling would be used in portions of units where visual quality is a concern, mainly along Forest Road (FR) 62.

Road Management—To accomplish implementation of proposed activities, approximately 50 miles of open system roads, about 40 miles of closed system roads, and 1.5 miles of seasonally open roads would be used as haul routes. Of the open system roads approximately 14 miles are outside of the project planning area and represent haul routes to county roads. Closed system roads used for project activities would not be opened to the public. All system roads would remain the same after project implementation; open roads would remain opened, closed roads would continue to be closed, and seasonally open roads would continue with that designation. Approximately 0.25 miles of new road construction would occur to access an activity unit and be used for future access for vegetation and fuels treatments. This new construction would become a closed system road after project use. Approximately 0.20 miles of temporary road construction would occur and would be decommissioned after project activity use. Normal routine road maintenance would occur.

Danger Tree Removal—Danger trees would be felled and removed along all previously described haul routes used for timber sale activity. If considered economically feasible, they would be sold as part of a timber sale. Danger trees within Riparian Habitat Conservation Areas (RHCAs) would not be removed; they would be cut and left to provide additional coarse woody debris.

Landscape Prescribed Fire—Landscape prescribed fire would occur across approximately 8,000 acres within the Grande Ronde River canyon. No timber harvest or mechanical fuel treatments would occur in these canyons. This treatment would reintroduce fire to a fire-dependent ecosystem blackening about 60 percent of the area to lessen the impact of a future uncharacteristic wildfire and improve forage quality for big game. In the majority of the project area, fire intensities would be kept low by keeping fire out of the overstory and burning mainly surface fuels. This activity would occur in almost all of the acres of the Grande Ronde inventoried roadless area (IRA) that are within the project planning area.

Hardwood Restoration—Twenty-three hardwood sites (aspen, black cottonwood, and mountain mahogany) totaling about 115 acres are proposed for treatment that includes release from conifers and fencing of these sites. Reduction of conifer competition in some aspen stands would be achieved by girdling trees or cutting and leaving the trees on site. Most of these stands have only mature or over-mature hardwood trees with little or no regeneration, or regeneration that is being severely browsed. Fencing would occur at these 23 hardwood sites.

Meadow Restoration—An estimated 275 acres of dry meadows would be treated to reduce conifer encroachment. Trees less than or equal to 6 inches DBH would be cut by hand followed by a prescribed underburn through the grass.

Non-commercial Thinning—This activity would cut excess trees that are less than 6 inches DBH on approximately 1,900 acres. Some units may have special conditions where trees up to 9 inches DBH would be cut. Either manual or mechanical methods would be use.

Forest Plan Amendment—In order to manage aspen stands in the project planning area, the Forest Plan would be amended to reallocate acres in management area allocations of D2-Research Natural Area, E2-Timber and Big Game, and A9-Special Interest Area. Elk Flats Meadow (D2), which is currently a proposed candidate for designation as a Research Natural Area (RNA), would be reallocated to management area A9-Special Interest Area in order to allow vegetation management, including cutting of trees, to maintain or enhance existing aspen and encourage aspen regeneration. In summary, approximately 70 acres of management area D2 (Elk Flats Meadow) would become management area A9; approximately 30 acres of management area E2 would become management area A9, and approximately 10 acres of management area D2 would become management area E2. This amendment would remain in effect until the current Forest Plan is revised.

Possible Alternatives—An alternative that would have fewer impacts on elk cover and/or old forest habitat was identified for this project. Commercial harvest would occur on approximately 1,300 acres using the same silviculture prescriptions and harvest methods. No timber harvest would occur in old forest stands or in areas of satisfactory cover. All other activities would remain the same but would occur on fewer acres. Another alternative identified would be to take no action at this time in the project planning area.

Responsible Official

Kevin Martin, Forest Supervisor, Umatilla National Forest, 2517 S.W. Hailey Avenue, Pendleton, Oregon 97801.

Nature of Decision To Be Made

The decision to be made is whether to approve the proposed action or any alternative way to achieve the desired outcome. A Forest Plan amendment is proposed.

Scoping Process

This notice of intent initiates the development of an EIS for the Cobbler II project and seeks any additional scoping comments not previously submitted. The comment period begins on the date of publication of this notice of intent and ends on February 26, 2010. It is important that reviewers provide their comments at such times and in such a manner that they are useful to the agency's preparation of the environmental impact statement. Therefore, comments should be provided prior to the close of the comment period and should clearly articulate the reviewer's concerns and comments. The submission of timely and specific comments can affect a reviewer's ability to participate in subsequent administrative appeal or judicial review.

Comments received in response to this solicitation, including names and addresses of those who comment will be part of the public record for this proposed action. Comments submitted anonymously will be accepted and considered; however, anonymous comments will not provide the respondent with standing to participate in subsequent administrative appeal or judicial review.

Dated: February 1, 2010.
Kevin Martin,
Forest Supervisor.

[FR Doc. 2010-2505 Filed 2-4-10; 8:45 am]

BILLING CODE 3410-11-P